NUCLEAR REGULATORY COMMISSION

[Docket Nos. 50-445 and 50-446]

TXU Electric; Comanche Peak Steam Electric Station, Units 1 and 2; Notice of Partial Denial of Amendment to Facility Operating License and Opportunity for Hearing

The U.S. Nuclear Regulatory Commission (the Commission) has partially denied a request by TXU Electric, (the licensee) for an amendment to Facility Operating License Nos. NPF-87 and NPF-89 issued to the licensee for operation of the Comanche Peak Steam Electric Station (CPSES), Units 1 and 2, located in Somervell County, Texas. Notice of Consideration of Issuance of this amendment was published in the Federal Register on October 4, 2000 (65 FR 59226).

The purpose of the licensee's amendment request was to revise the CPSES Security Plan as follows: (1) To allow response team members to perform compensatory measures for protective area intrusion detection or closed circuit television failure, (2) to post compensatory measures for vital doors only if both the alarm and lock are inoperable, (3) to modify vital area door alarm response if no unresolved protective area alarms are received, (4) to eliminate the need to perform vehicle ignition key checks within the protected area, (5) to modify the patrol frequency for the protected area, (6) to eliminate the need to search generic packages sealed at the point of manufacturing and sent to a site from a general distribution center (e.g., pallet of paper), and (7) to allow material/equipment to be sealed prior to exiting the protective area or searched and sealed in a location exterior to the protective area (this would permit material/equipment to be transferred from one site to another without additional search). The U.S Nuclear Regulatory Commission (the Commission) staff has completed its evaluation of the proposed changes to the CPSES Security Plan as detailed in the Safety Evaluation dated December 5, 2000. Of the changes proposed by the licensee, changes (1) and (5) are acceptable, change (2) is not applicable to CPSES and is thus denied, change (3) is unacceptable and is thus denied, change (4) is not a Security Plan commitment associated with CPSES and thus is denied, and changes (6) and (7) are currently approved in the CPSES Security Plan and thus are denied.

The licensee was notified of the Commission's denial of proposed Security Plan changes (2), (3), (4), (6) and (7) by a letter dated December 5, 2000.

By January 12, 2001, the licensee may demand a hearing with respect to the denial described above. Any person whose interest may be affected by this proceeding may file a written petition for leave to intervene.

A request for hearing or petition for leave to intervene must be filed with the Secretary of the Commission, U.S. Nuclear Regulatory Commission, Washington, DC 20555-0001, Attention: Rulemakings and Adjudications Staff, or may be delivered to the U.S. Nuclear Regulatory Commission, Public Document Room, Washington, DC 20555-000, by the above date.

A copy of any petitions should also be sent to the Office of the General Counsel, U.S. Nuclear Regulatory Commission, Washington, DC 20555-0001, and to George L. Edgar, Esq., Morgan, Lewis & Bockius, 1800 M Street, NW., Washington DC 20036-5869, attorney for the licensee.

For further details with respect to this action, see (1) the application for amendment dated May 2, 2000, and the supplement dated August 30, 2000, and (2) the Commission's letter to the licensee dated December 5, 2000.

Documents may be examined, and/or copied for a fee, at the NRC's Public Document Room, located at One White Flint North, 11555 Rockville Pike (first floor), Rockville, Maryland, and accessible electronically through the ADAMS Public Electronic Reading Room link at the NRC Web site (http://www.nrc.gov).

Dated at Rockville, Maryland, this 5th day of December 2000.
For the Nuclear Regulatory Commission.
Stuart A. Richards,
Project Director, Project Directorate IV-1, Division of Licensing Project Management, Office of Nuclear Reactor Regulation.

[FR Doc. 00-31737 Filed 12-12-00; 8:45 am]

BILLING CODE 7590-01-P